ENVIRONMENTAL PROTECTION AGENCY

40 CFR Parts 50, 52 and 81

[FRL-6867-9]

RIN 2060-AJ05

Rescinding the Finding that the Pre-existing PM-10 Standards Are No Longer Applicable in Northern Ada County/Boise, ID

AGENCY: Environmental Protection Agency (EPA).

ACTION: Proposed rule; notice to reopen the comment period.

SUMMARY: Today, EPA is reopening the public comment period on EPA's notice of proposed rulemaking “Rescinding the Finding that the Pre-existing PM-10 Standards are No Longer Applicable in Northern Ada County/Boise, Idaho,” published June 26, 2000 at 65 FR 39321. The original comment period was to close on July 26, 2000. We had previously extended the comment period to August 31, 2000 but due to the number of comments received so far, and the type of concerns expressed about the impact this decision may potentially have on the public, we feel it is appropriate to reopen the comment period and provide an additional 30 days for interested and affected parties to submit comments. The new closing date will be 30 days from the date of publication of this notice. You can find this notice, once it's published, and all Federal Register notices from 1995-2000 online at http://www.access.gpo.gov/su_docs/aces/aces140.html. All comments received by EPA during the public comment period will be considered in the development of a final rule.

In our June 26, 2000 proposal we also proposed to amend 40 CFR part 50. Specifically, we proposed to delete 40 CFR 50.6(d) in its entirety consistent with our decision that, in light of the U.S. Court of Appeals for the D.C. Circuit's opinion in American Trucking Association in which, among other things, the Court vacated EPA's revised PM-10 standards, the pre-existing PM-10 standards, as reflected in subsections (a) and (b) of 40 CFR 50.6, should continue to apply in all areas. The effect of this action would be that the pre-existing PM-10 standards, as codified at 40 CFR 50.6(a) and (b), would remain applicable to all areas. To date, we have not received any comments on this aspect of the June 26, 2000 proposal. Therefore, we are not reopening the comment period on this portion of the proposal. Instead, we will take final action on this portion of the proposal in a separate Federal Register document.

DATES: All comments regarding EPA's notice of proposed rulemaking issued on June 26, 2000 must be received by EPA on or before close of business on the last day of the new public comment period October 11, 2000.

ADDRESSES: Comments should be submitted to:

On paper. Send paper comments (in duplicate, if possible) to the Air and Radiation Docket and Information Center (6102), Attention: Docket No. A-2000-13, U.S. Environmental Protection Agency, 1200 Pennsylvania Ave., NW, Washington, DC 20460, telephone (202) 260-7548.

Electronically. Send electronic comments to EPA at: A-and-R-Docket@epa.gov. Avoid sending confidential business information (CBI). We accept comments as e-mail attachments or on disk. Either way, they must be in WordPerfect version 5.1, 6.1 or Corel 8 file format. Avoid the use of special characters and any form of encryption. You may file your comments on this proposed rule online at many Federal Depository Libraries. Be sure to identify all comments and data by docket number A-2000-13.

Public inspection. You may read the proposed rule (including paper copies of comments and data submitted electronically, minus anything claimed as CBI) at the Office of Air and Radiation Docket and Information Center located at 401 M Street, SW, Washington, DC 20460. They are available for public inspection from 8 a.m. to 5:30 p.m., Monday through Friday, excluding legal holidays. A reasonable fee may be charged for copying.

FOR FURTHER INFORMATION CONTACT: Questions about the proposal should be addressed to Gary Blais, Office of Air Quality Planning and Standards, Air Quality Strategies and Standards Division, Integrated Policy and Strategies Group, MD-15, Research Triangle Park, NC 27711, telephone (919) 541-3223 or e-mail to blais.gary@epa.gov. To ask about policy matters specifically regarding Northern Ada County/Boise, call Bonnie Thie, EPA Region 10, Office of Air Quality (OAQ-107), EPA, Seattle, Washington,(206) 553-1189.

Dated: August 31, 2000.
Henry C. Thomas,
Acting Director, Office of Air Quality Planning and Standards.

[FR Doc. 00-23236 Filed 9-8-00; 8:45 am]

BILLING CODE 6560-50-P